INTERNATIONAL TRADE COMMISSION

[USITC SE-15-013]

Sunshine Act Meeting

AGENCY HOLDING THE MEETING: United States International Trade Commission.

TIME AND DATE: April 23, 2015 at 11:00 a.m.

PLACE: Room 101, 500 E Street SW., Washington, DC 20436, Telephone: (202) 205-2000.

STATUS: Open to the public.

MATTERS TO BE CONSIDERED:

1. Agendas for future meetings: none

2. Minutes

3. Ratification List

4. Vote in Inv. Nos. 701-TA-531-533 and 731-TA-1270-1273 (Preliminary) (Polyethylene Terephthalate Resin (“PET Resin”) from Canada, China, India, and Oman). The Commission is currently scheduled to complete and file its determination on April 24, 2015; views of the Commission are currently scheduled to be completed and filed on May 1, 2015.

5. Outstanding action jackets: none

In accordance with Commission policy, subject matter listed above, not disposed of at the scheduled meeting, may be carried over to the agenda of the following meeting.

By order of the Commission.
Dated: April 14, 2015.
William R. Bishop,
Supervisory Hearings and Information Officer.

[FR Doc. 2015-08870 Filed 4-14-15; 4:15 pm]

BILLING CODE 7020-02-P